DEPARTMENT OF THE INTERIOR

National Park Service

[NPS-WASO-NAGPRA-NPS0037054; PPWOCRADN0-PCU00RP14.R50000]

Notice of Intent To Repatriate Cultural Items Amendment: The Andy Warhol Museum, Pittsburgh, PA

AGENCY: National Park Service, Interior.

ACTION: Notice; amendment.

SUMMARY: In accordance with the Native American Graves Protection and Repatriation Act (NAGPRA), The Andy Warhol Museum has amended a Notice of Intent to Repatriate published in the Federal Register on August 3, 2023. This notice amends the cultural affiliation in a collection removed from Moody County, SD.

DATES: Repatriation of the cultural item in this notice may occur on or after January 12, 2024.

ADDRESSES: Matt Gray, Director of Archives, The Andy Warhol Museum, 117 Sandusky Street, Pittsburgh, PA 15212, telephone (412) 237-8363, email graym@warhol.org.

SUPPLEMENTARY INFORMATION: This notice is published as part of the National Park Service's administrative responsibilities under NAGPRA. The determinations in this notice are the sole responsibility of The Andy Warhol Museum. The National Park Service is not responsible for the determinations in this notice. Additional information on the amendments and determinations in this notice, including the results of consultation, can be found in the summary or related records held by The Andy Warhol Museum.

Amendment

This notice amends the determinations published in a Notice of Intent to Repatriate in the Federal Register (88 FR 51345, August 3, 2023). Repatriation of the item in the original Notice of Intent to Repatriate has not occurred.

Before the date when repatriation could occur (September 5, 2023), a request for repatriation of the same object from the Cheyenne River Sioux Tribe of the Cheyenne River Reservation, South Dakota was submitted to The Andy Warhol Museum. The Tribe that submitted the first request for repatriation, the Flandreau Santee Sioux Tribe of South Dakota was informed of the second request. Soon after, on August 28, 2023, the Flandreau Santee Sioux Tribe of South Dakota rescinded their request in favor of the Cheyenne River Sioux Tribe of the Cheyenne River Reservation, South Dakota.

Determinations (as Amended)

Pursuant to NAGPRA and its implementing regulations, and after consultation with the appropriate Indian Tribes and Native Hawaiian organizations, The Andy Warhol Museum determined that:

• The one cultural item described above have ongoing historical, traditional, or cultural importance central to the Native American group or culture itself, rather than property owned by an individual.

• There is a relationship of shared group identity that can be reasonably traced between the cultural items in this notice and the Cheyenne River Sioux Tribe of the Cheyenne River Reservation, South Dakota.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 12, 2024. If competing requests for repatriation are received, The Andy Warhol Museum must determine the most appropriate requestor prior to repatriation. Requests for joint repatriation of the cultural item are considered a single request and not competing requests. The Andy Warhol Museum is responsible for sending a copy of this notice to the Indian Tribes and Native Hawaiian organizations identified in this notice.

Authority: Native American Graves Protection and Repatriation Act, 25 U.S.C. 3003, and the implementing regulations, 43 CFR 10.8, 10.10, 10.13, and 10.14.

Dated: December 6, 2023.
Melanie O'Brien,
Manager, National NAGPRA Program.

[FR Doc. 2023-27368 Filed 12-12-23; 8:45 am]

BILLING CODE 4312-52-P